DEPARTMENT OF TRANSPORTATION

Federal Transit Administration

[FTA Docket No. FTA 2022-0039]

Agency Information Collection Activity Under OMB Review: Passenger Ferry Grant Program, Electric or Low-Emitting Ferry Pilot Program and Ferry Service for Rural Communities

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before January 17, 2023.

ADDRESSES: Written comments and recommendations for the proposed information collection should be sent within 30 days of publication of this notice to www.reginfo.gov/public/do/PRAMain Find this particular information collection by selecting “Currently under 30-day Review—Open for Public Comments” or by using the search function.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590 (202) 366-0354 or tia.swain@dot.gov.

SUPPLEMENTARY INFORMATION: The Paperwork Reduction Act of 1995 (PRA), Public Law 104-13, section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On September 27, 2022, FTA published a 60-day notice (87 FR 58638) in the Federal Register soliciting comments on the ICR that the agency was seeking OMB approval. FTA received no comments after issuing this 60-day notice. FTA began the All Stations Accessibility Program (ASAP) in June 2022 under OMB emergency approval and is seeking renewal of this approval through OMB's standard PRA clearance process. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: Passenger Ferry Grant Programs, Electric or Low Emitting Ferry Pilot Program, and Ferry Service for Rural Communities Program.

OMB Control Number: 2132-0583.

Background: The Bipartisan Infrastructure Law, enacted as the Infrastructure Investment and Jobs Act, established two new grant programs Electric or Low-Emitting Ferry Pilot Program (IIJA 71102) and Ferry Service for Rural Communities (IIJA 71103). Funding for these two new programs was announced on July 11, 2022, in a joint Notice of Funding Opportunity (NOFO) with FTA's existing Passenger Ferry Grant Program (49 U.S.C. 5307(h)). The Passenger Ferry Grant Program provides competitive funding for projects that support passenger ferry systems in urbanized areas. The Electric or Low-Emitting Ferry Pilot Program makes Federal funds available competitively to projects that support the purchase of electric or low-emitting ferry vessels. The Ferry Service for Rural Communities Program makes Federal funds available competitively to States and territories to ensure basic essential ferry service is provided to rural areas. FTA will use an online, web-based grant management system to collect the following information:

• Legal name of the applicant (i.e., the legal name of the business entity), as well as any other identities under which the applicant may be doing business.

• Address, telephone, and email contact information for the applicant.

• Legal authority under which the applicant is established.

• Name and title of the authorized representative of the applicant (who will attest to the required certifications).

• DOT may also require the identity of external parties involved in preparation of the application, including outside accountants, attorneys, or auditors who may be assisting the business entity that is applying for assistance under this program.

• The specific statutory criteria that the applicant meets for eligibility under this program. The statute defines eligible applicants to include municipalities or community owned utilities excluding for-profit entities. Accordingly, DOT will require the applicant to identify which of these categories they meet, and how.

• Location where the applicant was legally established, created, or organized to do business. This information and supporting documentation will be required to demonstrate how the applicant meets the statutory requirement to be “established, created, or organized in the United States or under the laws of the United States.”

• Other identification numbers, including but not limited to the Employer/Taxpayer Identification Number (EIN/TIN), Data Universal Numbering System (DUNS) number, Unique Entity Identifier under 2 CFR part 25, etc. All applicants will be required to have pre-registered with the System for Award Management (SAM) at https://sam.gov/SAM/.

• Description of the applicant's business operations, in sufficient detail to demonstrate how the applicant meets the statutory requirement as a municipality or community owned utility.

• Responses to the evaluation criteria and selection consideration statements as outlined in the NOFO.

FTA estimates that it will take applicants approximately 10 hours to complete the application process. FTA estimates that grant recipients will spend another 4 hours, annually, submitting post-award reports. The burden estimate below accounts for the total amount of effort involved.

Respondents: Public transportation providers, local governmental entities, States, and federally recognized Tribes that operate a public ferry system.

Estimated Average Total Annual Respondents: 30.

Estimated Average Total Responses: 60.

Estimated Annual Burden Hours: 420.

Estimated Annual Burden per Respondent: 14 Hours.

Frequency: Annually.

Nadine Pembleton,
Deputy Associate Administrator, Office of Administration.

[FR Doc. 2022-27358 Filed 12-15-22; 8:45 am]

BILLING CODE 4910-57-P